DEPARTMENT OF STATE

[Public Notice: 10663]

Notice of Public Meeting; Correction

AGENCY: Department of State.

ACTION: Notice; correction.

SUMMARY: The Department of State published a document in the Federal Register of Friday, December 21, 2018, giving notice of a public meeting to prepare for the sixth session of the International Maritime Organization's (IMO) Sub-Committee on Pollution Prevention and Response (PPR 6). The document contained an incorrect date and call-in number.

FOR FURTHER INFORMATION CONTACT: Ms. Melissa Perera, 202-372-1446, or Melissa.E.Perera@uscg.mil.

SUPPLEMENTARY INFORMATION:

Correction

In the Federal Register of Friday, December 21, 2018, Vol. 83, No. 245, on page 65783 in the second column under “Notice of Public Meeting”, correct the first sentence to read:

The Department of State will conduct an open meeting at 1:00 p.m. Eastern Standard Time on Tuesday, February 12, 2019, in Room 6I10-01-A of the Douglas A. Munro Coast Guard Headquarters Building at St. Elizabeth's, 2703 Martin Luther King Jr. Avenue SE, Washington, DC 20593.

Additionally, in the third column, correct the third full sentence regarding the teleconference phone line to read:

To access the teleconference line, participants should call (202) 475-4000 and use Participant Code: 796 771 84.

Joel C. Coito,
Coast Guard Liaison Officer, Office of Ocean and Polar Affairs, Department of State.

[FR Doc. 2019-00902 Filed 2-1-19; 8:45 am]

BILLING CODE 4710-09-P